DEPARTMENT OF TRANSPORTATION

Coast Guard

33 CFR Part 117

[CGD01-02-135]

RIN 2115-AE47

Drawbridge Operation Regulations; Harlem River, NY

AGENCY: Coast Guard, DOT.

ACTION: Temporary final rule.

SUMMARY: The Coast Guard is temporarily changing the drawbridge operation regulations that govern the 103 Street (Wards Island) Bridge, at mile 0.0, across the Harlem River at New York. This temporary change to the drawbridge operation regulations will allow the bridge to remain closed to vessel traffic from November 21, 2002 through January 19, 2003. This action is necessary to facilitate maintenance at the bridge.

DATES: This rule is effective from November 21, 2002 through January 19, 2003.

ADDRESSES: Documents indicated in this preamble as being available in the docket are part of docket (CGD01-02-135) and are available for inspection or copying at the First Coast Guard District, Bridge Administration Office, 408 Atlantic Avenue, Boston, Massachusetts, 02110-3350, between 7 a.m. and 3 p.m., Monday through Friday, except Federal holidays.

FOR FURTHER INFORMATION CONTACT: Mr. Joe Arca, Project Officer, First Coast Guard District, (212) 668-7165.

SUPPLEMENTARY INFORMATION:

Regulatory Information

We did not publish a notice of proposed rulemaking (NPRM) for this regulation. Under 5 U.S.C. 553(b)(B), the Coast Guard finds that good cause exists for not publishing an NPRM and under 5 U.S.C. 553(d)(3), the Coast Guard finds that good cause exists for making this rule effective less than 30 days after publication in the Federal Register.

On September 27, 2002, the Coast Guard published a temporary deviation from the Drawbridge Operation Regulations (67 FR 60865) entitled Drawbridge Operation Regulations Harlem River, New York. That temporary deviation allowed the bridge to remain closed to navigation from September 23, 2002 through November 20, 2002. The bridge has been in the closed position to navigation since September 23, 2002.

The bridge owner recently advised the Coast Guard that due to inclement weather the completion of the repair work has been delayed and will not be completed until January 19, 2003. The bridge is presently inoperable due to painting scaffolding located at the bridge.

There have been no requests to open the bridge during the time period November through January for several years. The Coast Guard believes this closure is reasonable and notice and public comment are not necessary based upon the need to complete the bridge maintenance and the fact that the bridge has no requests to open.

Any delay encountered in this regulation's effective date would be unnecessary and contrary to the public interest since immediate action is needed to complete this bridge maintenance.

Background and Purpose

The Wards Island Bridge has a vertical clearance of 55 feet at mean high water and 60 feet at mean low water. The existing regulations are listed at 33 CFR 117.789(c).

The bridge owner, New York City Department of Transportation, asked the Coast Guard to temporarily change the drawbridge operation regulations to allow the bridge to need not open for the passage of vessel traffic from September 23, 2002 through November 20, 2002, to facilitate structural repairs and bridge painting operations. On September 27, 2002, the Coast Guard published a temporary deviation from the Drawbridge operation regulations (67 FR 60865) [CGD01-02-105] entitled Drawbridge Operation Regulations Harlem River, New York.

The Coast Guard was recently notified by the bridge owner that the painting operations at the bridge will not be completed by November 20, 2002, the end of the temporary deviation effective period. They requested to extend the bridge closure from November 21, 2002 through January 19, 2003, to complete their work. The bridge normally has no requests to open November through January. The Coast Guard believes the bridge closure is reasonable due to the need to complete the bridge maintenance and the lack of vessel traffic.

Discussion of Rule

In § 117.789 a new paragraph (h) will be added to allow the 103 Street (Wards Island) Bridge to remain closed to vessel traffic from November 21, 2002 through January 19, 2003.

Regulatory Evaluation

This rule is not a “significant regulatory action” under section 3(f) of Executive Order 12866, Regulatory Planning and Review, and does not require an assessment of potential costs and benefits under section 6(a)(3), of that Order. The Office of Management and Budget has not reviewed it under that Order. It is not “significant” under the regulatory policies and procedures of the Department of Transportation (DOT) (44 FR 11040; February 26, 1979).

This conclusion is based on the fact that the bridge has historically had no requests to open during the effective period of this temporary final rule.

Small Entities

Under the Regulatory Flexibility Act (5 U.S.C. 601-612), we considered whether this rule would have a significant economic impact on a substantial number of small entities. The term “small entities” comprises small businesses, not-for profit organizations that are independently owned and operated and are not dominant in their fields, and governmental jurisdictions with populations less than 50,000.

The Coast Guard certifies under 5 U.S.C. 605(b), that this rule will not have a significant economic impact on a substantial number of small entities. This conclusion is based on the fact that the bridge has historically had no requests to open during the effective period of this temporary final rule.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (32)(e), of Commandant Instruction M16475.1d, this rule is categorically excluded from further environmental documentation because promulgation of changes to drawbridge regulations have been found to not have a significant effect on the environment. A “Categorical Exclusion Determination” is available in the docket for inspection or copying where indicated under ADDRESSES.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From November 21, 2002 through January 19, 2003, in § 117.789, a new paragraph (h) is added, to read as follows:

§ 117.789 Harlem River.

* * * * *

(h) The draw of the 103 Street (Wards Island) Bridge shall open on signal from 10 a.m. to 5 p.m. if at least a four-hour notice is given to the New York City Highway Radio (Hotline) Room; except that, from November 21, 2002 through January 19, 2003, the 103 Street (Wards Island) Bridge need not open for the passage of vessel traffic.

Dated: November 18, 2002.
V.S. Crea,
Rear Admiral, U.S. Coast Guard, Commander, First Coast Guard District.

[FR Doc. 02-30434 Filed 11-29-02; 8:45 am]

BILLING CODE 4910-15-P